FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than February 13, 2024.

A. Federal Reserve Bank of Chicago (Colette A. Fried, Assistant Vice President) 230 South LaSalle Street, Chicago, Illinois 60690-1414. Comments can also be sent electronically to Comments.applications@chi.frb.org:

1. The CN 2023 Dynasty Trust, Milwaukee, Wisconsin, Gregory P. Nicklaus, Arbor Vitae, Wisconsin, and Peter J. Wilder, Pewaukee, Wisconsin, as co- trustees; and the DN 2023 Dynasty Trust, Milwaukee, Wisconsin, Todd R. Nicklaus, Rothschild, Wisconsin, and Peter J. Wilder, as co-trustees; to join the Nicklaus Family Control Group, a group acting in concert, to acquire voting shares of River Valley Bancorporation, Inc., and thereby indirectly acquire voting shares of IncredibleBank, both of Wausau, Wisconsin.

Board of Governors of the Federal Reserve System.
Michele Taylor Fennell,
Deputy Associate Secretary of the Board.

[FR Doc. 2024-01718 Filed 1-26-24; 8:45 am]

BILLING CODE P